DEPARTMENT OF COMMERCE

International Trade Administration

A-570-882

Refined Brown Aluminum Oxide from the People's Republic of China: Notice of Partial Rescission of Antidumping Duty Administrative Review and Extension of Time Limit for Preliminary Results

AGENCY: Import Administration, International Trade Administration, Department of Commerce.

SUMMARY: The Department of Commerce (the Department) is rescinding in part the administrative review of the antidumping duty order on refined brown aluminum oxide (RBAO) from the People's Republic of China (PRC) for the period November 1, 2006, to October 31, 2007, with respect to Henan Yilong High and New Materials Co. Ltd. (Henan Yilong). This partial rescission is based on the withdrawal of the request for review by the interested party that requested the review. Additionally, the Department is extending the preliminary results of this administrative review to no later than December 1, 2008.

EFFECTIVE DATE: July 3, 2008.

FOR FURTHER INFORMATION CONTACT: David Goldberger or Kate Johnson, AD/CVD Operations, Office 2, Import Administration, International Trade Administration, U.S. Department of Commerce, 14th Street and Constitution Avenue, N.W., Washington, D.C. 20230; telephone (202) 482-4136 or (202) 482-4929, respectively.

SUPPLEMENTARY INFORMATION:

Background:

On November 1, 2007, the Department published a notice of opportunity to request an administrative review of the antidumping duty order on, inter alia, RBAO from the PRC. See Antidumping or Countervailing Duty Order, Finding, or Suspended Investigation; Opportunity to Request Administrative Review, 72 FR 61859 (November 1, 2007). In response, Fujimi Corporation (Fujimi), an importer of the subject merchandise, timely requested an administrative review of the antidumping duty order on RBAO from the PRC for entries of the subject merchandise during the November 1, 2006, through October 31, 2007, period of review (POR) from two PRC producers/exporters: Henan Yilong and Qingdao Shunxingli Abrasives Co. Ltd. (Qingdao Shunxingli).

On December 27, 2007, the Department initiated a review on Henan Yilong and Qingdao Shunxingli. See Initiation of Antidumping and Countervailing Duty Administrative Reviews, 72 FR 73315 (December 27, 2007). The preliminary results of this review are currently due no later than August 1, 2008.

In a letter dated May 23, 2008, Fujimi withdrew its request for review of Henan Yilong and requested that the Department rescind the review with respect to this company. On June 2, 2008, domestic producers Washington Mills, C + E Minerals, and Treibacher Scheifmittel Corp. (collectively, “domestic producers”), submitted comments opposing Fujimi's request. Fujimi responded to the domestic producers' opposition on June 11, 2008.

Rescission, in Part, of Administrative Review

The applicable regulation, 19 CFR 351.213(d)(1), states that if a party that requested an administrative review withdraws the request within 90 days of the publication of the notice of initiation of the requested review, the Secretary will rescind the review in whole or in part. Furthermore, the regulation states the Secretary may extend this time limit if the Secretary decides that it is reasonable to do so.

The domestic producers object to Fujimi's request, stating that it is untimely, and that both the Department and the domestic producers already have devoted extensive time and resources to this review. Further, the domestic producers contend that Fujimi waited until surrogate value data was placed on the record to determine whether the review results would be favorable before withdrawing its review request for Henan Yilong.

Although Fujimi withdrew the request for review of Henan Xilong after the 90-day deadline, the Department finds it reasonable to extend the withdrawal deadline. Contrary to the domestic producers' assertions, the Department has not yet devoted significant time or resources to analyzing Henan Yilong's information for this review, e.g., the Department has not yet completed its analysis of Henan Xilong's questionnaire responses, nor issued a supplemental questionnaire for portions of the Henan Xilong questionnaire response. See, e.g., Honey from Argentina: Notice of Extension of Time Limit for Preliminary Results and Partial Rescission of Antidumping Duty Administrative Review, 72 FR 50661 (September 4, 2007), remaining unchanged in Honey from Argentina: Final Results of Antidumping Duty Administrative Review and Determination Not to Revoke in Part, 73 FR 24220 (May 2, 2008) (where the Department extended the deadline for withdrawal of the review request because it had not yet devoted significant resources to the review). Additionally, the Department has not yet made any determinations on the selection of surrogate values to apply in this review. Thus, we find no basis to support the domestic producers' allegation concerning Fujimi's timing of the withdrawal request. Further, we note that the domestic producers did not request a review for this segment of the proceeding. Therefore, for all these reasons, the Department determines it is reasonable to rescind the review with respect to Henan Xilong. The Department will issue appropriate assessment instructions for Henan Xilong directly to U.S. Customs and Border Protection (CBP) 15 days after the publication of this notice. The Department will direct CBP to assess antidumping duties for Henan Xilong at the cash deposit rates in effect on the date of entry for entries during the period November 1, 2006, through October 31, 2007.

Notification to Parties

This notice serves as a reminder to importers of their responsibility under 19 CFR 351.402(f) to file a certificate regarding the reimbursement of antidumping duties prior to liquidation of the relevant entries during this period of time. Failure to comply with this requirement could result in the Secretary's presumption that reimbursement of antidumping duties occurred and subsequent assessment of double antidumping duties. This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Extension of Time Limit for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend that time period to a maximum of 365 days.

The Department has determined it is not practicable to complete this review for the remaining respondent, Qingdao Shunxingli, within the statutory time limit because we require additional time to analyze complex issues, such as the valuation of the principal raw material and the financial ratios, and the questionnaire responses submitted by Qingdao Shunxingli. The time needed to analyze this information and to develop fully the record in this administrative review makes it impracticable to complete the preliminary results within the originally specified time limit. Accordingly, the Department is extending the time limit for completion of the preliminary results of this administrative review until no later than December 1, 2008 (i.e., the next business day following the 365th day after the last day of the anniversary month of the order). We intend to issue the final results no later than 120 days after publication of the preliminary results notice.

This notice is issued and published in accordance with and sections 751(a)(1), 751(a)(3)(A), and 777(i)(1) of the Act, and 19 CFR 351.213(d)(4).

Dated: June 27, 2008.
Stephen J. Claeys,
Deputy Assistant Secretary for Import Administration.

[FR Doc. E8-15262 Filed 7-2-08; 8:45 am]

BILLING CODE 3510-DS-S